DEPARTMENT OF HOMELAND SECURITY

Coast Guard

33 CFR Part 165

[Docket No. USCG-2008-0384]

Special Local Regulations; Safety Zones; Recurring Events in Captain of the Port Long Island Sound

AGENCY: Coast Guard, DHS.

ACTION: Notice of enforcement of regulation.

SUMMARY: The Coast Guard will enforce Safety Zones for fireworks displays and Special Local Regulations for swimming events in the Sector Long Island Sound area of responsibility on the dates and times listed in the tables below. This action is necessary to provide for the safety of life on navigable waterways during these regattas, fireworks displays and swim events. During the enforcement period, no person or vessel may enter the safety zone without permission of the Captain of the Port (COTP) Sector Long Island Sound or designated representative.

DATES: The regulations in 33 CFR 165.151 and 33 CFR 100.100 will be enforced during the dates and times listed in the Supplementary Information section.

FOR FURTHER INFORMATION CONTACT: If you have questions on this notice, call or email Petty Officer Joseph Graun, Prevention Department, U.S. Coast Guard Sector Long Island Sound, (203) 468-4544, joseph.L.Graun@uscg.mil.

SUPPLEMENTARY INFORMATION: The Coast Guard will enforce the safety zones listed in 33 CFR 165.151 and special local regulations listed in 33 CFR 100.100 on the specified dates and times as indicated in Tables below. If the event is delayed by inclement weather, the regulation will be enforced on the rain date indicated in the Tables below. These regulations were published in the Federal Register on February 10, 2012 (77 FR 6954).

33 CFR 100.100
1.1 Harvard-Yale Regatta, Thames River, New London, CT | • Event type: Boat Race. • Date: Saturday, May 26, 2012 from 2 p.m. until 5 p.m.
| • Location: All waters of the Thames River at New London, Connecticut, between the Penn Central Draw Bridge 41°21′46.94″ N 072°5′14.46″ W to Bartlett Cove 41°25′35.9″ N 072°5′42.89″ W (NAD 83).
1.2 Great Connecticut River Raft Race, Middletown, CT | • Event type: Boat Race. • Date: Saturday, July 28, 2012 from 10 a.m. until 2 p.m.
| • Location: All waters of the Connecticut River Middletown, CT between Dart Island (Marker no. 73) 41°33′8.235″ N 072°33′24.459″ W and Portland Shoals (Marker no. 92) 41°33′46.828″ N 072°38′42.176″ W (NAD 83).

Table 1 to § 165.151
6.0 | June
6.2 Town of Branford Fireworks | • Date: Saturday, June 23, 2012. • Rain date: Sunday, June 24, 2012.
| • Time: 8:30 p.m. to 10:30 p.m.
| • Location: Waters of Branford Harbor, Branford, CT in approximate position, 41°15′30″ N, 072°49′22″ W (NAD 83).
6.3 Vietnam Veterans/Town of East Haven Fireworks | • Date: Saturday, June 30, 2012. • Rain date: Sunday, June 31, 2012.
| • Time: 8:30 p.m. to 10:30 p.m.
| • Location: Waters off Cosey beach, East Haven, CT in approximate position, 41°14′19″ N, 072°52′9.8″ W (NAD 83).
7.0 | July
7.1 Point O'Woods Fire Company Summer Fireworks | • Date: Tuesday, July 3, 2012. • Rain date: Wednesday, July 4, 2012.
| • Time: 8:30 p.m. to 10:30 p.m.
| • Location: Waters of the Great South Bay, Point O'Woods, NY in approximate position 40°39′18.57″ N, 073°08′5.73″ W (NAD 83).
7.4 Norwalk Fireworks | • Date: Tuesday, July 3, 2012. • Rain date: Thursday, July 5, 2012.
| • Time: 8:30 p.m. to 10:30 p.m.
| • Location: Waters off Calf Pasture Beach, Norwalk, CT in approximate position, 41°04′50″ N, 073°23′22″ W (NAD 83).
7.5 Lawrence Beach Club Fireworks | • Date: Saturday, June 30, 2012. • Rain date: Sunday, July 1, 2012.
| • Time: 8:30 p.m. to 10:30 p.m.
| • Location: Waters of the Atlantic Ocean off Lawrence Beach Club, Atlantic Beach, NY in approximate position 40°34′42.65″ N, 073°42′56.02″ W (NAD 83).
7.6 Sag Harbor Fireworks | • Date: Saturday, June 30, 2012. • Rain date: Sunday, July 1, 2012.
| • Time: 8:30 p.m. to 10:30 p.m.
| • Location: Waters of Sag Harbor Bay off Havens Beach, Sag Harbor, NY in approximate position 41°00′26″ N, 072°17′9″ W (NAD 83).
7.7 South Hampton Fresh Air Home Fireworks | • Date: Friday, July 6, 2012 • Rain date: Saturday, July 7, 2012
| • Time: 8:30 p.m. to 10:30 p.m.
| • Location: Waters of Shinnecock Bay, Southampton, NY in approximate position, 40°51′48″ N, 072°26′30″ W (NAD 83).
7.8 Westport Police Athletic League Fireworks | • Date: Tuesday, July 3, 2012. • Rain date: Thursday, July 5, 2012.
| • Time: 8:30 p.m. to 10:30 p.m.
| • Location: Waters off Compo Beach, Westport, CT in approximate position 41°06′15″ N, 073°20′57″ W (NAD 83).
7.18 Hartford Riverfest Fireworks | • Date: Saturday, July 7, 2012. • Rain date: Sunday, July 8, 2012.
| • Time: 9:00 p.m. to 10:30 p.m.
| • Location: Waters of the Connecticut River off Hartford, CT in approximate position 41°45′21″ N, 072°39′28″ W (NAD 83).
7.22 Mason's Island Yacht Club Fireworks | • Date: July 7, 2012. • Rain date: July 8, 2012.
| • Time: 8:30 p.m. to 10:30 p.m.
| • Location: Waters of Fisher's Island Sound, Noank, CT in approximate position 41°19′30.61″ N, 071°57′48.22″ W (NAD 83).
7.28 City of Long Beach Fireworks | • Date: Tuesday, July 3, 2012. • Rain date: Friday, July 13, 2012.
| • Time: 8:30 p.m. to 10:30 p.m.
| • Location: Waters off Riverside Blvd, City of Long Beach, NY in approximate position 40°34′38.77″ N, 073°39′41.32″ W (NAD 83).
7.31 Shelter Island Fireworks | • Date: July 14, 2012. • Rain date: July 15, 2012.
| • Time: 8:30 p.m. to 10:30 p.m.
| • Location: Waters of Gardiner Bay, Shelter Island, NY in approximate position 41°04′39.11″ N, 072°22′01.07″ W (NAD 83).
7.35 Groton Long Point Yacht Club Fireworks | • Date: Saturday, July 14, 2012. • Rain date: Sunday, July 15, 2012.
| • Time: 8:30 p.m. to 10:30 p.m.
| • Location: Waters of Long Island Sound, Groton, CT in approximate position 41°18′05″ N, 072°02′08″ W (NAD 83).
8.0 | August
8.2 Port Washington Sons of Italy Fireworks | • Date: Sunday, September 9, 2012. • Time: 8:30 p.m. to 10:30 p.m.
| • Location: Waters of Hempstead Harbor off Bar Beach, North Hempstead, NY in approximate position 40°49′48.04″ N, 073°39′24.32″ W (NAD 83).
8.6 Town of Babylon Fireworks | • Date: Saturday, August 25, 2012. • Rain date: Sunday, August 26, 2012.
| • Time: 8:30 p.m. to 10:30 p.m.
| • Location: Waters off of Cedar Beach Town Park, Babylon, NY in approximate position 40°37′53″ N, 073°20′12″ W (NAD 83).
9.0 | September
9.1 East Hampton Fire Department Fireworks | • Date: Saturday, September 1, 2012. • Rain date: Sunday, September 2, 2012.
| • Time: 8:30 p.m. to 10:30 p.m.
| • Location: Waters off Main Beach, East Hampton, NY in approximate position 40°56′40.28″ N, 072°11′21.26″ W (NAD 83).

Table 2 to § 165.151
1.1 Swim Across the Sound | • Date: Saturday, July 28, 2012. • Time: 8:30 a.m. to 6:30 p.m.
| • Location: Waters of Long Island Sound, Port Jefferson, NY to Captain's Cove Seaport, Bridgeport, CT in approximate positions 40°58′11.71″ N 073°05′51.12″ W, north-westerly to the finishing point at Captain's Cove Seaport 41°09′25.07″ N, 073°12′47.82″ W (NAD 83).
1.3 Maggie Fischer Memorial Great South Bay Cross Bay Swim | • Date: Friday, July 20, 2012. • Time: 7 a.m. to 11 a.m.
| • Location: Waters of the Great South Bay, NY. Starting Point at the Fire Island Lighthouse Dock in approximate position 40°38′01″ N, 073°13′07″ W, northerly through approximate points 40°38′52″ N, 073°13′09″ W, 40°39′40″ N, 073°13′30″ W, 40°40′30″ N, 073°14′00″ W, and finishing at Gilbert Park, Brightwaters, NY at approximate position 40°42′25″ N, 073°14′52″ W (NAD 83).

Under the provisions of 33 CFR 100.100 & 33 CFR 165.151, the fireworks displays, swimming event and regatta listed above are established as safety zones or special local regulations. During these enforcement periods, persons and vessels are prohibited from entering into, transiting through, mooring, or anchoring within the safety zones or special local regulations unless they receive permission from the COTP or designated representative.

This notice is issued under authority of 33 CFR part 100, 33 CFR part 165 and 5 U.S.C. 552(a). In addition to this notice in the Federal Register, the Coast Guard will provide the maritime community with advance notification of this enforcement period via the Local Notice to Mariners or marine information broadcasts. If the COTP determines that a regulated area need not be enforced for the full duration stated in this notice, a Broadcast Notice to Mariners may be used to grant general permission to enter the regulated area.

Dated: May 10, 2012.
J. M. Vojvodich,
Captain, U.S. Coast Guard, Captain of the Port Sector Long Island Sound.

[FR Doc. 2012-12563 Filed 5-24-12; 8:45 am]

BILLING CODE 9110-04-P